DEPARTMENT OF COMMERCE

National Oceanic and Atmospheric Administration

RIN 0648-XO04

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene the SEDAR Gag/Red Grouper Update Workshop (SEDAR).

DATES: The meeting will convene at 1:00 pm on Monday, March 30, 2009 and conclude no later than 1:00 pm on Thursday, April 2, 2009.

ADDRESSES: The meeting will be held at the NMFS, 75 Virginia Beach Drive, Miami, FL 33149.

Council address: Gulf of Mexico Fishery Management Council, 2203 North Lois Avenue, Suite 1100, Tampa, Florida 33607.

FOR FURTHER INFORMATION CONTACT: Steven Atran, Population Dynamic Statistician, Gulf of Mexico Fishery Management Council; telephone: 813-348-1630.

SUPPLEMENTARY INFORMATION: The Gulf of Mexico Fishery Management Council (Council) will convene the SEDAR Gag/Red Grouper Update Workshop (SEDAR) to conduct update assessments of the SEDAR 10 gag stock assessment and the SEDAR 12 red grouper stock assessment. An update assessment is a single workshop that utilizes the assessment models and input parameters from the previous full SEDAR assessment, with minor modifications if any, and updated data streams to update the results of the previous full assessment. The SEDAR 10 gag assessment was completed in 2006, and was subsequently re-evaluated in May 2007 with corrections to recreational bycatch estimates. The assessment concluded that, as of 2004 (the final year of available catch data), the gag stock was not overfished, but it was undergoing overfishing. The SEDAR 12 red grouper assessment was completed in 2007. Using catch data through 2005, the assessment concluded that the stock had recovered from an overfished condition in the mid-1990s, and that as of 2005, the stock was not undergoing overfishing and stock biomass was slightly above its optimum yield (OY) target level.

A copy of the agenda and related materials can be obtained by calling the Council office at 813-348-1630.

Although other non-emergency issues not on the agendas may come before the SEDAR for discussion, in accordance with the Magnuson-Stevens Fishery Conservation and Management Act (M-SFCMA), those issues may not be the subject of formal action during this meeting. Actions of the SEDAR will be restricted to those issues specifically identified in the agendas and any issues arising after publication of this notice that require emergency action under Section 305(c) of the M-SFCMA, provided the public has been notified of the Council's intent to take action to address the emergency.

Special Accommodations

These meetings are physically accessible to people with disabilities. Requests for sign language interpretation or other auxiliary aids should be directed to Tina O'Hern at the Council (see ADDRESSES) five working days prior to the meeting.

Dated: March 10, 2009.
Tracey L. Thompson,
Acting Director, Office of Sustainable Fisheries, National Marine Fisheries Service.

[FR Doc. E9-5452 Filed 3-12-09; 8:45 am]

BILLING CODE 3510-22-S